DEPARTMENT OF THE INTERIOR

National Park Service

Death Valley National Park Advisory Commission

AGENCY: National Park Service, Interior.

ACTION: Meeting notice.

SUMMARY: This notice sets forth the date of the November 13, 2002 meeting of the Death Valley National Park Advisory Commission.

DATES: The public meeting will be held on November 13, 2002 from 9 a.m. to 4:30 p.m.

ADDRESSES: The meeting will be held at the Death Valley National Park Visitor Center Auditorium, Highway 190, Death Valley, California.

FOR FURTHER INFORMATION CONTACT: James T. Reynolds, Death Valley National Park, P.O. Box 579, Death Valley, California 92328.

SUPPLEMENTARY INFORMATION: The meeting will be open to the public. Any member of the public may file with the Commission a written statement concerning agenda items. The statement should be addressed to the Death Valley National Park Advisory Commission, PO Box 579, Death Valley, California 92328.

Agenda: The November 13, 2002 meeting will consist of Operational Updates on Park Activities which include Fee Demo Program Outsourcing; Barrick Administrative Site Donation; California Desert Parks Foundation update; Comprehensive Interpretive Plan update; a review of Fee Demo Projects; Environmental Audit briefing; Yucca Mountain Project update; Exotic Plant Removal project update; Wilderness Boundary update; Grazing issues update; Timbisha Shoshone Tribe update; an update on the Furnace Creek Environmental Impact Statement and related water issues; and a Citizens Open Forum where the public can make comments and ask questions on any park activity.

Dated: September 30, 2002.
James T. Reynolds,
Superintendent.

[FR Doc. 02-27247 Filed 10-25-02; 8:45 am]

BILLING CODE 4310-70-M